DEPARTMENT OF LABOR

Employment and Training Administration

[TA-W-74,326]

Pitney Bowes, Inc., Mailing Solutions Management, Global Engineering Group, Including On-Site Leased Workers From Guidant Group, and Teleworkers Located Throughout the United States Reporting to Shelton, CT; Amended Certification Regarding Eligibility to Apply for Worker Adjustment Assistance

In accordance with Section 223 of the Trade Act of 1974, as amended (“Act”), 19 U.S.C. 2273, the Department of Labor issued a Certification of Eligibility to Apply for Worker Adjustment Assistance on September 10, 2010, applicable to workers and former workers of Pitney Bowes, Inc., Mailing Solutions Management Division, Engineering Quality Assurance, Shelton, Connecticut. The Department's Notice was published in the Federal Register on September 23, 2010 (75 FR 57981). The certification was amended on January 3, 2011 to include teleworkers located through the United States. The Department's Notice of amended certification was published in the Federal Register on January 14, 2011 (76 FR 2710).

At the request of a company official, the Department reviewed the certification to clarify the subject worker group's identity.

Additional information revealed that the correct identity of the subject firm worker group should read: Pitney Bowes, Inc., Mailing Solutions Management, Global Engineering Group, including on-side leased workers from Guidant Group and teleworkers located through the United States reporting to, Shelton, Connecticut.

Accordingly, the Department is amending this certification to properly reflect this matter.

The amended notice applicable to TA-W-74,326 is hereby issued as follows:

All workers of Pitney Bowes, Inc., Mailing Solutions Management, Global Engineering Group, including on-site leased workers from Guidant Group and teleworkers located throughout the United States reporting to, Shelton, Connecticut, who became totally or partially separated from employment on or after June 23, 2009, through September 10, 2012, and all workers in the group threatened with total or partial separation from employment on the date of certification through two years from the date of certification, are eligible to apply for adjustment assistance under Chapter 2 of Title II of the Trade Act of 1974, as amended.

Signed at Washington, DC, this 22nd day of February 2011.
Del Min Amy Chen,
Certifying Officer, Office of Trade Adjustment Assistance.

[FR Doc. 2011-5657 Filed 3-11-11; 8:45 am]

BILLING CODE 4510-FN-P